DEPARTMENT OF ENERGY

Federal Energy Regulatory Commission

Combined Notice of Filings

Take notice that the Commission has received the following Natural Gas Pipeline Rate and Refund Report filings:

Filings Instituting Proceedings

Docket Numbers: RP22-1069-000.

Applicants: Big Sandy Pipeline, LLC.

Description: Compliance filing: Big Sandy Fuel Filing effective 9/1/2022 to be effective N/A.

Filed Date: 7/28/22.

Accession Number: 20220728-5053.

Comment Date: 5 p.m. ET 8/9/22.

Docket Numbers: RP22-1070-000.

Applicants: Granite State Gas Transmission, Inc.

Description: § 4(d) Rate Filing: A Limited Section 4 Rate Change to be effective 9/1/2022.

Filed Date: 7/28/22.

Accession Number: 20220728-5080.

Comment Date: 5 p.m. ET 8/9/22.

Docket Numbers: RP22-1071-000.

Applicants: Equitrans, L.P.

Description: § 4(d) Rate Filing: Negotiated Rate Agreement Amendment—8/1/2022 to be effective 8/1/2022.

Filed Date: 7/29/22.

Accession Number: 20220729-5008.

Comment Date: 5 p.m. ET 8/10/22.

Docket Numbers: RP22-1072-000.

Applicants: Tuscarora Gas Transmission Company.

Description: § 4(d) Rate Filing: Tuscarora Section 4 Rate Case (1 of 3) to be effective 9/1/2022.

Filed Date: 7/29/22.

Accession Number: 20220729-5021.

Comment Date: 5 p.m. ET 8/10/22.

Docket Numbers: RP22-1073-000.

Applicants: Midcontinent Express Pipeline LLC.

Description: § 4(d) Rate Filing: Timeline for Sale of Capacity to be effective 9/1/2022.

Filed Date: 7/29/22.

Accession Number: 20220729-5024.

Comment Date: 5 p.m. ET 8/10/22.

Docket Numbers: RP22-1074-000.

Applicants: Sierrita Gas Pipeline LLC.

Description: § 4(d) Rate Filing: Qtrly Fuel_LU Update Filing to be effective 9/1/2022.

Filed Date: 7/29/22.

Accession Number: 20220729-5034.

Comment Date: 5 p.m. ET 8/10/22.

Docket Numbers: RP22-1075-000.

Applicants: Florida Gas Transmission Company, LLC.

Description: § 4(d) Rate Filing: Negotiated Rates Filing—7/29/22 to be effective 8/1/2022.

Filed Date: 7/29/22.

Accession Number: 20220729-5049.

Comment Date: 5 p.m. ET 8/10/22.

Docket Numbers: RP22-1076-000.

Applicants: ETC Tiger Pipeline, LLC.

Description: § 4(d) Rate Filing: Negotiated Rate Filing—BP Energy to be effective 8/1/2022.

Filed Date: 7/29/22.

Accession Number: 20220729-5050.

Comment Date: 5 p.m. ET 8/10/22.

Docket Numbers: RP22-1077-000.

Applicants: Trunkline Gas Company, LLC.

Description: § 4(d) Rate Filing: Negotiated Rate Filing—16 to be effective 8/1/2022.

Filed Date: 7/29/22.

Accession Number: 20220729-5051.

Comment Date: 5 p.m. ET 8/10/22.

Docket Numbers: RP22-1078-000.

Applicants: Eastern Gas Transmission and Storage, Inc.

Description: § 4(d) Rate Filing: EGTS—July 29, 2022 Negotiated Rate and Nonconforming Service Agreement to be effective 9/1/2022.

Filed Date: 7/29/22.

Accession Number: 20220729-5054.

Comment Date: 5 p.m. ET 8/10/22.

Docket Numbers: RP22-1079-000.

Applicants: Transcontinental Gas Pipe Line Company, LLC.

Description: § 4(d) Rate Filing: Rate Schedule S-2 Tracker FIling eff 8/1/2022 to be effective 8/1/2022.

Filed Date: 7/29/22.

Accession Number: 20220729-5069.

Comment Date: 5 p.m. ET 8/10/22.

Docket Numbers: RP22-1080-000.

Applicants: Wyoming Interstate Company, L.L.C.

Description: § 4(d) Rate Filing: Fuel_LU Quarterly Update Filing to be effective 9/1/2022.

Filed Date: 7/29/22.

Accession Number: 20220729-5074.

Comment Date: 5 p.m. ET 8/10/22.

Docket Numbers: RP22-1081-000.

Applicants: Ruby Pipeline, L.L.C.

Description: § 4(d) Rate Filing: FLU_EPC Recomputation Update Filing to be effective 9/1/2022.

Filed Date: 7/29/22.

Accession Number: 20220729-5082.

Comment Date: 5 p.m. ET 8/10/22.

Docket Numbers: RP22-501-000.

Applicants: ANR Pipeline Company.

Description: Motion Filing: ANR Section 4 Rate Case Motion to Place in Effect RP22-501 to be effective 8/1/2022.

Filed Date: 7/29/22.

Accession Number: 20220729-5022.

Comment Date: 5 p.m. ET 8/10/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-778-000.

Applicants: Southern Star Central Gas Pipeline, Inc.

Description: Refund Report: Rate Case (RP21-778) Refund Report Filing to be effective N/A.

Filed Date: 7/29/22.

Accession Number: 20220729-5061.

Comment Date: 5 p.m. ET 8/10/22.

Docket Numbers: RP22-501-002.

Applicants: ANR Pipeline Company.

Description: Compliance filing: ANR Section 4 Rate Case Compliance RP22-501 to be effective 8/1/2022.

Filed Date: 7/29/22.

Accession Number: 20220729-5023.

Comment Date: 5 p.m. ET 8/10/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2022.
Debbie-Anne A. Reese,
Deputy Secretary.

[FR Doc. 2022-16732 Filed 8-3-22; 8:45 am]

BILLING CODE 6717-01-P